DEPARTMENT OF ENERGY

Federal Energy Regulatory Commission

[Project No. 13511-003]

Igiugig Village Council; Notice of Availability of Environmental Assessment

In accordance with the National Environmental Policy Act of 1969 and the Federal Energy Regulatory Commission's (Commission or FERC's) regulations, 18 CFR part 380 (Order No. 486, 52 FR 47897), the Office of Energy Projects has reviewed the Igiugig Village Council's application for a 10-year pilot project license for the proposed Igiugig Hydrokinetic Project No. 13511, which would be located on the Kvichak River in the Lake and Peninsula Borough, near the town of Igiugig, Alaska, and has prepared an Environmental Assessment (EA). In the EA, Commission staff analyzed the potential environmental effects of constructing and operating the project and concludes that licensing the project, with appropriate environmental protective measures, would not constitute a major federal action that would significantly affect the quality of the human environment.

A copy of the EA is available for review at the Commission in the Public Reference Room or may be viewed on the Commission's website at www.ferc.gov using the eLibrary link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice. Comments may be filed electronically via the internet. See 18 CFR 385.2001(a)(1)(iii) and the instructions on the Commission's website (http://www.ferc.gov/docs-filing/ferconline.asp) under the eFiling link. Commenters can submit brief comments up to 6,000 characters, without prior registration, using the eComment system at http://www.ferc.gov/docs-filing/ecomment.asp. You must include your name and contact information at the end of your comments. For assistance, please contact FERC Online Support FERCOnlineSupport@ferc.gov. Although the Commission strongly encourages electronic filings, documents may also be paper-filed. To paper-file, mail an original copy to: Kimberly D. Bose, Secretary, Federal Energy Regulatory Commission, 888 First Street, NE, Washington, DC 20426. Please affix Project No. 13511-003 to all comments.

For further information, contact Ryan Hansen by telephone at 202-502-8074 or by email at ryan.hansen@ferc.gov.

Dated: February 21, 2019.
Kimberly D. Bose,
Secretary.

[FR Doc. 2019-03438 Filed 2-27-19; 8:45 am]

BILLING CODE 6717-01-P